DEPARTMENT OF COMMERCE

International Trade Administration

[A-570-852]

Creatine Monohydrate from the People's Republic of China; Final Results of Antidumping Duty Administrative Review

AGENCY: Import Administration, International Trade Administration, Department of Commerce.

ACTION: Notice of Final Results of Antidumping Duty Administrative Review.

SUMMARY: On November 6, 2003, the Department of Commerce published the preliminary results of the 2002/2003 administrative review of the antidumping duty order on creatine monohydrate from the People's Republic of China. We gave interested parties an opportunity to comment on the preliminary results but received no comments. The final results do not differ from the preliminary results of review, in which we found that the respondent did not make sales in the United States at prices below normal value.

EFFECTIVE DATE: January 13, 2004.

FOR FURTHER INFORMATION CONTACT: Blanche Ziv, Import Administration, International Trade Administration, U.S. Department of Commerce, 14th and Constitution Avenue, N.W., Washington, D.C. 20230; telephone (202) 482-4207.

SUPPLEMENTARY INFORMATION:

Background

On November 6, 2003, the Department of Commerce (“the Department”) published in the Federal Register the preliminary results of its administrative review of creatine monohydrate (“creatine”) from the People's Republic of China (“PRC”) (Creatine Monohydrate from the People's Republic of China: Preliminary Results of Antidumping Duty Administrative Review, 68 FR 62767 (November 6, 2003) (“Preliminary Results”). We invited parties to comment on our preliminary results of review. We received no comments. The Department has now completed the antidumping duty administrative review in accordance with section 751 of the Tariff Act of 1930 (the “Act”).

Scope of Order

The product covered by this order is creatine monohydrate, which is commonly referred to as “creatine.” The chemical name for creatine monohydrate is N (aminoiminomethyl) - N - methylglycine monohydrate. The Chemical Abstracts Service (“CAS”) registry number for this product is 6020-87-7. Creatine monohydrate in its pure form is a white, tasteless, odorless powder, that is a naturally occurring metabolite found in muscle tissue. Creatine monohydrate is provided for in subheading 2925.20.90 of the Harmonized Tariff Schedule of the United States (“HTSUS”). Although the HTSUS subheading and the CAS registry number are provided for convenience and customs purposes, the written description of the scope of this order is dispositive.

Period of Review

The period of review (“POR”) is February 1, 2002, through January 31, 2003.

Final Results of the Review

We received no comments from interested parties on our preliminary results. In addition, we have determined that no changes to our analysis are warranted for purposes of these final results. The weighted-average dumping margin for Suzhou Sanjian Nutrient & Health products Co., Ltd. (“Sanjian”) for the period February 1, 2002, through January 31, 2003, is zero percent.

We will instruct U.S. Customs and Border Protection (“CBP”) to liquidate entries of the subject merchandise from Sanjian during the period February 1, 2002, through January 31, 2003 without regard to antidumping duties. All other entries of the subject merchandise during the POR will be liquidated at the antidumping rate in place at the time of entry.

The Department will issue appropriate assessment instructions directly to the CBP within 15 days of publication of these final results of review.

Cash Deposit Requirements

The following deposit rates will be effective upon publication of these final results for all shipments of creatine monohydrate from the PRC entered, or withdrawn from warehouse, for consumption on or after the publication date, as provided for by section 751(a)(1) of the Act:(1) for Sanjian, which has a separate rate, no antidumping duty deposit will be required; (2) for a company previously found to be entitled to a separate rate and for which no review was requested, the cash deposit rate will be the rate established in the most recent review of that company; (3) for all other PRC exporters the cash deposit rate will be 153.70 percent, the PRC-wide rate established in the less than fair value (“LTFV”) investigation; and (4) for non-PRC exporters of subject merchandise from the PRC, the cash deposit rate will be the rate applicable to the PRC exporter that supplied that exporter. These deposit rates shall remain in effect until publication of the final results of the next administrative review.

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notification Regarding APOs

This notice also serves as a reminder to parties subject to administrative protective order (“APO”) of their responsibility concerning the disposition of proprietary information disclosed under APO in accordance with 19 CFR 351.305(a)(3), which continues to govern business proprietary information in this segment of the proceeding. Timely written notification of the return/destruction of APO materials or conversion to judicial protective order is hereby requested. Failure to comply with the regulations and the terms of an APO is a sanctionable violation.

We are issuing and publishing this determination and notice in accordance with sections 751(a)(1) and 777(i)(1) of the Act.

Dated: January 6, 2004.
James J. Jochum,
Assistant Secretary for Import Administration.

[FR Doc. 04-698 Filed 1-12-04; 8:45 am]

BILLING CODE 3510-DS-S